DEPARTMENT OF DEFENSE

Office of the Secretary

TRICARE (Formerly Known as the Civilian Health and Medical Program of the Uniformed Services (CHAMPUS)); Fiscal Year 2004 Mental Health Rate Updates

AGENCY: Office of the Secretary, DoD.

ACTION: Notice of updated mental health per diem rates.

SUMMARY: This notice provides for the updating of hospital-specific per diem rates for high volumes providers and regional per diem rates for low volume providers; the updated cap per diem for high volume providers; the beneficiary per diem cost-share amount for low volume providers for FY 2004 under the TRICARE Mental Health Per Diem Payment System; and the updated per diem rates for both full-day and half-day TRICARE Partial Hospitalization Programs for fiscal year 2004.

EFFECTIVE DATE: The fiscal year 2004 rates contained in this notice are effective for services occurring on or after October 1, 2003.

FOR FURTHER INFORMATION CONTACT: Stan Regensberg, Office of Medical Benefits and Reimbursement Systems, TRICARE Management Activity, telephone (303) 676-3742.

SUPPLEMENTARY INFORMATION: The final rule published in the Federal Register on September 6, 1988, (53 FR 34285) set forth reimbursement changes that were effective for all inpatient hospital admission in psychiatric hospitals and exempt psychiatric units occurring on or after January 1, 1989. The final rule published in the Federal Register on July 1, 1993, (58 FR 35-400) set forth maximum per diem rates for all partial hospitalization admissions on or after September 29, 1993. Included in these final rules were provisions for updating reimbursement rates for each federal fiscal year. As stated in the final rules, each per diem shall be updated by the Medicare update factor for hospitals and units exempt from the Medicare Prospective Payment System. For fiscal year 2004, Medicare has recommended a rate of increase of 3.4 percent for hospitals and units excluded from the prospective payment system. TRICARE will adopt this update factor for FY 2004 as the final update factor. Hospitals and units with hospital-specific rates (hospitals and units with high TRICARE volume) and regional specific rates for psychiatric hospitals and units with low TRICARE volume will have their TRICARE rates for FY 2003 updates by 3.4 percent for FY 2004. Partial hospitalization rates for full day and half day programs will also be updated by 3.4 percent for FY 2004. The cap amount for high volume hospitals and units will also be updated by the 3.4 percent for FY 2004. The beneficiary cost-share for low volume hospitals and units will also be updated by the 3.4 percent for FY 2004. Consistent with Medicare, the wage portion of the regional rate subject to the area wage adjustment is 71.56 percent for FY 2004.

The following reflect an update of 3.4 percent.

Regional Specific Rates for Psychiatric Hospitals and Units With Low Tricare Volume
United States census region | Rate*
Northeast:
New England | $618
Mid-Atlantic | 594
Midwest:
East North Central | 513
West North Central | 484
South:
South Atlantic | 612
East South Central | 663
West South Central | 558
West:
Mountain | 557
Pacific | 657
* Wage portion of the rate, subject to the area wage adjustment: 71.56 percent

Beneficiary Cost-Share: Beneficiary cost-share (other than dependents of active duty members) for care paid on the basis of a regional per diem rate is the lower of $164 per day or 25 percent of the hospital billed charges effective for services rendered on or after October 1, 2003

Cap Amount: Updated cap amount for hospitals and units with high TRICARE volume is $776 per day for FY 2004.

The following reflect an update of 3.4 percent for FY 2004.

Partial Hospitalization Rates for Full-Day and Half-Day Programs FY 2004
United States census region | Full-day rate (6 hours or more) | Half-day rate (3-5 hours)
Northeast:
New England (ME, NH, VT, MA, RI, CT) | $248 | $186
Mid-Atlantic (NY, NJ, PA) | 268 | 201
Midwest:
East North Central (OH, IN, IL, MI, WI) | 236 | 177
West North Central (MN, IA, MO, ND, SD, NE, KS) | 236 | 177
South:
South Atlantic (DE, MD, DC, VA, NY, NC, SC, GA, FL) | 255 | 191
East South Central (KY, TN, AL, MS) | 275 | 206
West South Central (AR, LA, TX, OK) | 275 | 206
West:
Mountain (MT, ID, WY, CO, NM, AZ, UT, NV) | 278 | 209
Pacific (WA, OR, CA, AK, HI) | 272 | 204

The above rates are effective for services rendered on or after December 1, 2003.

Dated: September 22, 2003.
Patricia L. Toppings,
Alternate OSD Federal Register Liaison Officer, Department of Defense.

[FR Doc. 03-24441 Filed 9-26-03; 8:45 am]

BILLING CODE 5001-08-M